DEPARTMENT OF HOMELAND SECURITY

Coast Guard

[Docket No. USCG-2023-0247]

Certificates of Alternative Compliance for the Eighth Coast Guard District

AGENCY: Coast Guard, DHS.

ACTION: Notification of issuance of certificates of alternative compliance.

SUMMARY: The Coast Guard announces that the Eighth Coast Guard District's Prevention Division has issued certificates of alternative compliance from the International Regulations for Preventing Collisions at Sea, 1972 (72 COLREGS), to vessels of special construction or purpose that cannot fully comply with the light, shape, and sound signal provisions of 72 COLREGS without interfering with the vessel's design and construction. We are issuing this notice because its publication is required by statute. This notification of issuance of certificates of alternative compliance promotes the Coast Guard's marine safety mission.

DATES: These Certificates of Alternative Compliance were issued between January 2023 and March 2023.

FOR FURTHER INFORMATION CONTACT: For information or questions about this notice call or email Lieutenant Commander Jessica Flennoy, District Eight, Prevention Division, U.S. Coast Guard, telephone 504-671-2156, email Jessica.Flennoy@uscg.mil.

SUPPLEMENTARY INFORMATION: The United States is signatory to the International Maritime Organization's International Regulations for Preventing Collisions at Sea, 1972 (72 COLREGS), as amended. The special construction or purpose of some vessels makes them unable to comply with the light, shape, or sound signal provisions of the 72 COLREGS. Under statutory law, however, specified 72 COLREGS provisions are not applicable to a vessel of special construction or purpose if the Coast Guard determines that the vessel cannot comply fully with those requirements without interfering with the special function of the vessel.¹

¹ 33 U.S.C. 1605.

The owner, builder, operator, or agent of a special construction or purpose vessel may apply to the Coast Guard District Office in which the vessel is being built or operated for a determination that compliance with alternative requirements is justified,² and the Chief of the Prevention Division would then issue the applicant a certificate of alternative compliance (COAC) if he or she determines that the vessel cannot comply fully with 72 COLREGS light, shape, and sound signal provisions without interference with the vessel's special function.³ If the Coast Guard issues a COAC, it must publish notice of this action in the Federal Register.⁴

² 33 CFR 81.5.

³ 33 CFR 81.9.

⁴ 33 U.S.C. 1605(c) and 33 CFR 81.18.

The Eighth Coast Guard District has issued COACs to the following vessels from January 2023 to March 2023:

Year | Vessel name | Details
2023 | EVA | This certificate authorized the placement of the vessel's mast light 40′-3¾″ above the main deck and 23′-3″ when the mast is in the lowered position and 1′-2″ aft of amidships; sidelights on the elevated pilothouse, 10′-5¾″ outboard from centerline of the vessel; Restricted in Ability to Maneuver and Not Under Command Lights 1′-6″ off centerline starting at 25′-5⅛″ above the hull and vertically spaced 6′-7″; the stern light placed at the centerline of the vessel on the rear portion of the pilot house no less than nor exceeding 23′-3″ as measured from the main deck; and, as a result of the Restricted in Ability to Maneuver and Not Under Command light placement, the towing masthead lights will not be above and clear of all other lights.
2023 | GENERAL ARNOLD | This certificate authorized the placement of the vessel's stern light on the dredge ladder end 25′-0″ off centerline, and the aft anchor light on the dredge ladder A-frame 3′-4″ off centerline with a 19° obstruction from dredge boom crane.
2023 | LEIGHTON K | This certificate authorized the placement of the vessel's mast light 40′-3¾″ above the main deck and 23′-3″ when the mast is in the lowered position and 1′-2″ aft of amidships; sidelights on the elevated pilothouse, 10′-5¾″ outboard from centerline of the vessel; Restricted in Ability to Maneuver and Not Under Command Lights 1′-6″ off centerline starting at 25′-5⅛″ above the hull and vertically spaced 6′-7″; the stern light placed at the centerline of the vessel on the rear portion of the pilot house no less than nor exceeding 23′-3″ as measured from the main deck; and, as a result of the Restricted in Ability to Maneuver and Not Under Command light placement, the towing masthead lights will not be above and clear of all other lights.
2023 | GINNY H | This certificate authorized the placement of the vessel's sidelights on the elevated pilot house 9′-5″ outboard from the centerline of the vessel; Restricted in Ability to Maneuver and Not Under Command lights 7′-5″ off centerline starting 26′-9¼″ above the hull and vertically spaced 7′; and the stern light at the centerline of the vessel on the rear portion of the pilot house at a height no less than nor exceeding 8′-10½″ as measured form the main deck.
2023 | T-ATS 11 | This certificate authorized the placement of the vessel's after masthead light on the main mast 32′-10″ aft of the forward masthead light.
2023 | BRIZO | This certificate authorized the placement of the vessel's mast light 40′-3¾″ above the main deck and 23′-3″ when the mast is in the lowered position and 1′-2″ aft of amidships; sidelights on the elevated pilothouse, 10′-5¾″ outboard from centerline of the vessel; Restricted in Ability to Maneuver and Not Under Command Lights 1′-6″ off centerline starting at 25′-5⅛″ above the hull and vertically spaced 6′-7″; the stern light placed at the centerline of the vessel on the rear portion of the pilot house no less than nor exceeding 23′-3″ as measured from the main deck; and, as a result of the Restricted in Ability to Maneuver and Not Under Command light placement, the towing masthead lights will not be above and clear of all other lights.

The Chief of Prevention Division, of the Eighth Coast Guard District, U.S. Coast Guard, certifies that the vessels listed above are of special construction or purpose and are unable to comply fully with the requirements of the provisions enumerated in the 72 COLREGS, without interfering with the normal operation, construction, or design of the vessels. The Chief of Prevention Division further finds and certifies that the listed vessels are in the closest possible compliance with the applicable provisions of the 72 COLREGS.⁵

⁵ 33 U.S.C. 1605(a); 33 CFR 81.9.

This notice is issued under authority of 33 U.S.C. 1605(c) and 33 CFR 81.18.

Dated: July 31, 2023.
A.H. Moore, Jr.,
Captain, U.S. Coast Guard, Chief, Prevention Division, Eighth Coast Guard District.

[FR Doc. 2023-16664 Filed 8-3-23; 8:45 am]

BILLING CODE 9110-04-P